DEPARTMENT OF THE TREASURY

Submission for OMB Review; Comment Request

February 14, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 23, 2007 to be assured of consideration.

Internal Revenue Service (IRS)

OMB Number: 1545-XXXX.

Type of Review: New Collection.

Title: Form 13614-NR, Nonresident Alien Intake and Interview Sheet.

Form: 13614-NR.

Description: The completed form is used by screeners, preparers, or others involved in the return preparation process to more accurately complete tax returns of International Students and Scholars. These persons need assistance having their returns prepared so they can fully comply with the law.

Respondents: Individuals or households.

Estimated Total Burden Hours: 141,260 hours.

OMB Number: 1545-1459.

Type of Review: Extension.

Title: Program Sponsor Agreement for Continuing Education for Enrolled Agents.

Form: 8498.

Description: This information relates to the approval of continuing professional education programs for the individuals enrolled to practice before the Internal Revenue Service (enrolled agents).

Respondents: Individuals or households.

Estimated Total Burden Hours: 300 hours.

OMB Number: 1545-0746.

Title: LR-100-78 (Final) Creditability of Foreign Taxes.

Type of Review: Extension.

Description: The information needed is a statement by the taxpayer that it has elected to apply the safe harbor formula of section 1.901-2A(e) of the foreign tax credit regulations. This statement is necessary in order that the IRS may properly determine the taxpayer's tax liability.

Respondents: Businesses and other for-profit institutions, Farms.

Estimated Total Burden Hours: 37 hours.

OMB Number: 1545-1864.

Title: IRS e-file Signature Authorization for Form 1120.

Form: 8879-C.

Type of Review: Extension.

Description: Form 8879-C authorizes an officer of a corporation and an electronic return originator (ERO) to use a personal identification number (PIN) to electronically sign a corporation's electronic income tax return and, if applicable, Electronic Funds Withdrawal Consent.

Respondents: Businesses or other for-profit institutions.

Estimated Total Burden Hours: 50,673 hours.

OMB Number: 1545-1738.

Title: Revenue Procedure 2001-29, Leveraged Leases.

Type of Review: Extension.

Description: Revenue Procedure 2001-29 sets forth the information and representations required to be furnished by taxpayers in requests for an advance ruling that a leveraged lease transaction is, in fact, a valid lease for federal income tax purposes.

Respondents: Businesses and other for-profit institutions.

Estimated Total Burden Hours: 800 hours.

OMB Number: 1545-1316.

Title: Filing Assistance Program (Do you have to file a tax return?).

Form: 9452.

Type of Review: Extension.

Description: The Reduce Unnecessary Filing (RUF) Program was initiated in 1992. Each year approximately 72% of the taxpayers contacted through the RUF Program stop filing unnecessary returns. This has reduced taxpayer burden and been cost effective for the service. This is in accord with the Service's compliance and burden reduction initiatives.

Respondents: Individuals or households.

Estimated Total Burden Hours: 825,000 hours.

OMB Number: 1545-1867.

Title: S Corporation Declaration and Signature for Electronic Filing.

Form: 8453-S.

Type of Review: Extension.

Description: Form 8453-S is used to authenticate and authorize transmittal of an electronic Form 1120S.

Respondents: Businesses and other for-profit institutions.

Estimated Total Burden Hours: 10,530 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-2879 Filed 2-20-07; 8:45 am]

BILLING CODE 4830-01-P